DEPARTMENT OF ENERGY

Energy Information Administration

Agency Information Collection Extension

AGENCY: U.S. Energy Information Administration (EIA), Department of Energy (DOE).

ACTION: Notice and request for comments.

SUMMARY: EIA, pursuant to the Paperwork Reduction Act of 1995, intends to extend with changes for three years with the Office of Management and Budget (OMB), Form EIA-846 Manufacturing Energy Consumption Survey. Form EIA-846 collects information on energy consumption, expenditures, and building characteristics from establishments in the manufacturing sector of the U.S. economy.

DATES: Comments regarding this proposed information collection must be received on or before February 20, 2018. If you anticipate difficulty in submitting comments within that period, contact the person listed in ADDRESSES as soon as possible.

ADDRESSES: Written comments may be sent to Tom Lorenz, U.S. Energy Information Administration, EI-22, 1000 Independence Avenue SW, Washington, DC 20585 or by fax at (202) 586-9753, or by email at Thomas.Lorenz@eia.gov.

Access to the proposed form, instructions, and internet data collection screens can be found at: https://www.eia.gov/survey/form/eia_846/proposed/2018/form.pdf.

FOR FURTHER INFORMATION CONTACT: Requests for additional information or copies of the information collection instrument and instructions should be directed to Tom Lorenz by phone at (202) 586-3442, or by email at Thomas.Lorenz@eia.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; (d) ways to minimize the burden of the collection of information on respondents, including through the use of automated collection techniques or other forms of information technology; and (e) ways to identify alternate sources of manufacturing consumption information EIA proposes to collect. EIA will evaluate comments on duplication of data sources based on terms of data coverage, level of aggregation, frequency of collection, data reliability, and statutory requirements to determine whether alternate data sources represent a suitable substitute for EIA data.

This information collection request contains:

(1) OMB Numbers: 1905-0169;

(2) Information Collection Request Title: Manufacturing Energy Consumption Survey (MECS);

(3) Type of Request: Three-year extension with changes;

(4) Purpose: Form EIA-846, is a self-administered sample survey that collects energy consumption and expenditures data from establishments in the manufacturing sector. These establishments are classified under the North American Industry Classification System (NAICS) sector codes 31-33. The information from this survey is used to publish aggregate statistics on the energy consumption of the manufacturing sector including energy used for fuel and nonfuel purposes. The survey also gathers information on energy-related issues such as energy prices, on-site electricity generation, purchases of electricity from utilities and non-utilities, and fuel switching capabilities. MECS is also used to benchmark EIA's industry forecasting model and update changes in the energy intensity and greenhouse gases data series.

(4a) Proposed Change to Information Collection: EIA proposes the following minor change to Form EIA-846.

1. Questions about Tire-Derived Fuel: EIA proposes asking questions about tire-derived fuel (TDF) in the Waste Oils and Tars, and Waste Byproduct Gases section of the questionnaire starting on page 35 of the current Form EIA-846A, to be inserted after questions 138-139, specifically from those industries, Paper (NAICS 322) and Nonmetallic Mineral Products (NAICS 327), that use it as an energy source. This is not a substantive change as EIA already asks respondents to report TDF on the MECS in a section titled, “Other.” To make the reporting of TDF clear and easier for respondents, the questions in this section about TDF are the same questions that have always been asked about this energy source: Purchases, expenditures, transfers-in, amount produced on-site, whether it's a product/byproduct of another energy source consumed on-site, and fuel consumption. Over the past three MECS cycles, TDF has become a growing energy source within the “Other” section and accounts for over half of the energy consumed that is reported in that section. The use of TDF may be understated in the current form because some establishments may not report TDF fuel use because respondents may not know where to report their TDF volumes. By directly asking for these data as a separate data element, EIA will improve the coverage and accuracy of the use of this energy source.

(5) Annual Estimated Number of Respondents: 15,000;

(6) Annual Estimated Number of Total Responses: 3,750;

(7) Annual Estimated Number of Burden Hours: 34,565;

Average Burden per Response: 9.2 hours.

(8) Annual Estimated Reporting and Recordkeeping Cost Burden: EIA estimates that there are no additional costs to respondents associated with this data collection. The annual burden cost to the respondents is estimated to be $2,546,058 (34,565 burden hours times $73.66 per hour). Other than the cost of burden hours, EIA estimates that there are no additional costs for generating, maintaining and providing the information.

Statutory Authority: Section 13(b) of the Federal Energy Administration Act of 1974, Pub. L. 93-275, codified as 15 U.S.C. 772 (b) and the DOE Organization Act of 1977, Pub. L. 95-91, codified at 42 U.S.C. 7101 et seq. 42 U.S.C. 7135(i) as amended by section 3101 of the Omnibus Budget Reconciliation Act of 1986, Pub. L. 99-509.

Issued in Washington, DC, on December 15, 2017.
Nanda Srinivasan,
Director, Office of Survey Development and Statistical Integration, U.S. Energy Information Administration.

[FR Doc. 2017-27596 Filed 12-21-17; 8:45 am]

BILLING CODE 6450-01-P